NATIONAL SCIENCE FOUNDATION

Advisory Committee for Environmental Research and Education; Notice of Meeting

In accordance with the Federal Advisory Committee Act (Pub. L. 92-463, as amended), the National Science Foundation (NSF) announces the following meeting:

Name and Committee Code: Advisory Committee for Environmental Research and Education (#9487)

Date and Time: October 30, 2017; 9:00 a.m.-5:30 p.m. October 31, 2017; 9:00 a.m.-3:00 p.m.

Place: National Science Foundation, 2415 Eisenhower Avenue, Alexandria, VA 22314.

Type of Meeting: Open.

Contact Person: Dr. Leah Nichols, Staff Associate, Office of Integrative Activities/Office of the Director/National Science Foundation (Email: lenichol@nsf.gov), NSF, 4201 Wilson Blvd., Arlington, VA 22230; Telephone: (703) 292-2983.

Minutes: May be obtained from https://www.nsf.gov/ere/ereweb/minutes.jsp.

Purpose of Meeting: To provide advice, recommendations, and oversight concerning support for environmental research and education.

Agenda: Approval of minutes from past meeting. Updates on agency support for environmental research and activities. Discussion with NSF Director and Assistant Directors. Plan for future advisory committee activities. Updated agenda will be available at https://www.nsf.gov/ere/ereweb/minutes.jsp.

Dated: September 12, 2017.
Crystal Robinson,
Committee Management Officer.

[FR Doc. 2017-19605 Filed 9-14-17; 8:45 am]

BILLING CODE 7555-01-P